DEPARTMENT OF THE INTERIOR

Bureau of Land Management

[NV-910-01-0777-30]

Northeastern Great Basin Resource Advisory Council Meeting Location and Time

AGENCY: Bureau of Land Management, Interior.

ACTION: Resource Advisory Council's meeting location and time.

SUMMARY: In accordance with the Federal Land Policy and Management Act and the Federal Advisory Committee Act of 1972 (FACA), 5 U.S.C., the Department of the Interior, Bureau of Land Management (BLM), Council meetings will be held as indicated below. The agenda for this meeting on August 3, 2001 includes: review and approval of minutes from the January 5, 2001 and the May 3-4, 2001 meetings.

Discussion/Decision Topics

Southern Nevada Public Lands Management Act Acquisitions

California Trail Interpretive Center Discussion

Off-Highway Vehicle Guidelines

Vegetation Guidelines

Battle Mountain Fire Use Plan

Elko Field Office Fire Land Use Plan Amendment

Elko Field Office OHV/California Trail/Special Area Land Use Plan Amendment

Land Use Plan Amendments

Meetings are open to the public. The public may present written comments to the Council. Each formal Council meeting will also have time allocated for hearing public comments. The public comment period for the Council meeting is listed below. Depending on the number of persons wishing to comment and time available, the time for individual oral comments may be limited. Individuals who plan to attend and need special assistance, such as sign language interpretation, tour transportation or other reasonable accommodations, should contact the BLM as provided below.

DATES, TIMES, PLACE: The time and location of the meeting is as follows: Northeastern Great Basin Resource Advisory Council, Opera House, Eureka, Nevada, 89316; August 3, 2001, beginning at 9 a.m.; public comment period 11 a.m. and 2:30 p.m. adjournment at 4 p.m. or when business is concluded after that time.

FOR FURTHER INFORMATION CONTACT: Diane Murray, Public Affairs Specialist, Battle Mountain Field Office, 50 Bastian Road, Battle Mountain, NV 89820, telephone (775) 6635-4000.

SUPPLEMENTARY INFORMATION: The purpose of the Council is to advise the Secretary of the Interior, through the BLM, on a variety of planning and management issues, associated with the management of the public lands.

Helen M. Hankins,
Elko Field Manager.

[FR Doc. 01-18392 Filed 7-23-01; 8:45 am]

BILLING CODE 4310-HC-M